DEPARTMENT OF THE INTERIOR

Bureau of Land Management

[BLM_OR_FRN_MO4500169318]

Public Meetings for the John Day-Snake Resource Advisory Council, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) will meet as follows.

DATES: The John Day-Snake RAC Planning Subcommittee will meet from 6 to 8 p.m. Pacific Time (PT) on Wednesday, September 13, 2023, via the Zoom for Government platform. The full John Day-Snake RAC will meet Thursday and Friday, October 19 and 20, 2023. On October 19, the meeting will be from 8 a.m. to 4:30 p.m. PT. The October 20 meeting will be from 8 a.m. to noon PT in person in Maupin, Oregon, at the Maupin Civic Center located in Maupin City Hall, with a virtual participation option available.

Thirty-minute public comment periods will be offered at 7:20 p.m. PT Wednesday, September 13, 2023; at 4 p.m. PT Thursday, October 19, 2023; and at 11:30 a.m. PT Friday, October 20, 2023.

ADDRESSES: Final agendas for each meeting and contact information regarding Zoom participation details will be published on the RAC web page at least 10 days in advance at https://www.blm.gov/get-involved/resource-advisory-council/near-you/oregon-washington/john-day-rac.

Comments to the RAC can be mailed to: BLM Prineville District; Attn. Amanda Roberts; 3050 NE 3rd St., Prineville, OR 97754.

FOR FURTHER INFORMATION CONTACT: Kaitlyn Webb, Public Affairs Officer, 3050 N 3rd St., Prineville, OR 97754; telephone: (541) 416-6700; email: kwebb@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The 15-member RAC was chartered and appointed by the Secretary of the Interior. Its diverse perspectives are represented in commodity, conservation, and local interests. The RAC provides advice to BLM and, as needed, to U.S. Forest Service resource managers regarding management plans and proposed resource actions on public land in the John Day-Snake area. All meetings are open to the public in their entirety. Information to be distributed to the RAC must be provided to its members prior to the start of each meeting.

Standing agenda items include management of energy and minerals, timber, rangeland and grazing, commercial and dispersed recreation, wildland fire and fuels, and wild horses and burros; review of recommendations regarding proposed actions by the Vale or Prineville BLM Districts and the Wallowa-Whitman, Umatilla, Malheur, Ochoco, and Deschutes National Forests; and any other business that may reasonably come before the RAC. The Designated Federal Officer will attend the meeting, take minutes, and publish the minutes on the RAC web page at https://www.blm.gov/get-involved/resource-advisory-council/near-you/oregon-washington/john-day-rac.

For sign language interpreter services, assistive listening devices, or other reasonable accommodations, please contact (FOR FURTHER INFORMATION CONTACT) 7 business days before the meeting to ensure there is sufficient time to process the request. The Department of the Interior manages accommodation requests on a case-by-case basis.

The public may send written comments to the subcommittee and RAC in response to material presented (see ADDRESSES).

Before including your address, phone number, email address, or other personal identifying information in your comments, please be aware that your entire comment—including your personal identifying information—may be made publicly available at any time. While you can ask us in your comment to withhold your personal identifying information from public review, we cannot guarantee we will be able to do so.

(Authority: 5 U.S.C. 10)

Amanda Roberts,
Prineville District Manager.

[FR Doc. 2023-10196 Filed 5-11-23; 8:45 am]

BILLING CODE 4331-24-P